DEPARTMENT OF TRANSPORTATION

National Highway Traffic Safety Administration

[Docket No. NHTSA-2008-0009; Notice 1]

Bridgestone Firestone North American Tire, LLC, Receipt of Petition for Decision of Inconsequential Noncompliance

Bridgestone Firestone North American Tire, LLC (BFNT) has determined that certain tires that it manufactured in September and October of 2007, did not fully comply with paragraph S5.5.1(a) of 49 CFR 571.139, Federal Motor Vehicle Safety Standard (FMVSS) No. 139 New Pneumatic Radial Tires for Light Vehicles. For the passenger car and light truck tires it regulates, FMVSS No. 139 requires mandatory compliance for new tires manufactured on or after September 1, 2007. BFNT has filed an appropriate report pursuant to 49 CFR Part 573, Defect and Noncompliance Responsibility and Reports.

Pursuant to 49 U.S.C. 30118(d) and 30120(h) (see implementing rule at 49 CFR part 556), BFNT has petitioned for an exemption from the notification and remedy requirements of 49 U.S.C. Chapter 301 on the basis that this noncompliance is inconsequential to motor vehicle safety.

This notice of receipt of BFNT's petition is published under 49 U.S.C. 30118 and 30120 and does not represent any agency decision or other exercise of judgment concerning the merits of the petition.

Affected are approximately 3,963 Bridgestone brand P235160R17, DUELER H/T 684 II tires, produced in the Aiken Plant during the DOT weeks of 38, 39, 40, 41, and 42 in 2007. Paragraph S5.5.1(a) of 49 CFR 571.139 requires that for regulated radial passenger car and light truck tires manufactured on or after September 1, 2007, but before September 1, 2009, they be permanently labeled with the tire identification number required by 49 CFR part 574 on a sidewall of the tire. Except for retreaded tires, either the tire identification number or a partial tire identification number containing all characters in the tire identification number, except for the dated code and, at the discretion of the manufacturer, any optional code, must be labeled on the other sidewall of the tire.

BFNT explains that 3,963 P235160R17 size Bridgestone Dueler AIT 684 11 tires, produced at its Aiken plant (DOT serial code is 7XOUBD43807 through 7XOUBD44207) were mismarked as explained below. 1,862 of these tires are currently under BFNT's control and 2,101 remain in the replacement market in the U.S.

BFNT describes the mismarking by stating that the affected tires are marked with a complete Tire Identification Number (TIN) on one sidewall and no TIN or partial TIN on the opposite sidewall. Therefore, the noncompliance is a sidewall mismarking as follows:

Actual stamping is BLANK. (on one sidewall).

Correct stamping should be: 7XOUBD4 (on that sidewall).

BFNT states that it believes that the noncompliance described herein is inconsequential as it relates to Motor Vehicle Safety. The subject tires were not marked with the partial TIN on one sidewall as required. BFNT believes that this noncompliance is unlikely to have an adverse impact on motor vehicle safety since the actual performance of the subject tires will not be affected by the mismarking.

BFNT makes the argument that the noncompliant tires meet or exceed all performance requirements of FMVSS No. 139, and will have no impact on the operational performance or safety of vehicles on which these tires are mounted.

BFNT further states that the Tire Identification Number (TIN) becomes important in the event of a safety campaign so that the consumer may properly identify the recalled tire(s). The subject tires are marked in the same manner that was the requirement for many years until the FMVSS 139 markings which required additional TIN information on the opposite sidewall became effective. For this mislabeling, any safety campaign communication, if necessary, could include in the listing of recalled TINs, direction to the consumer to read both sidewalls of each tire on the vehicle for the TINs or partial TINs so that the consumer would know that these mislabeled tires are included in any future recall.

In view of the information and facts presented, BFNT submits that the mismarking of the subject tires should be deemed inconsequential as it relates to Motor Vehicle Safety and requests that it be granted an exemption from the notification and remedy requirements of the Safety Act.

NHTSA notes that due to the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions apply to only the 2,101 tires that have already passed from the manufacturer to an owner, purchaser, or dealer. Subsequent to receipt of the subject petition, BFNT informed NHTSA that they have remedied the mismarking on the 1,862 tires still under their control bringing those tires into compliance with FMVSS No. 139.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

The petition, supporting materials, and all comments received before the close of business on the closing date indicated below will be filed and will be considered. Please note that we are allowing just 10 days for comment in order to expedite resolution of this matter. All comments and supporting materials received after the closing date will also be filed and will be considered to the extent possible. When the petition is granted or denied, notice of the decision will be published in the Federal Register pursuant to the authority indicated below.

Comment closing date: February 8, 2008.

Authority: (49 U.S.C. 30118, 30120: delegations of authority at CFR 1.50 and 501.8).

Issued on: January 23, 2008.
Claude H. Harris
Director, Office of Vehicle, Safety Compliance.

[FR Doc. E8-1543 Filed 1-28-08; 8:45 am]

BILLING CODE 4910-59-P